DEPARTMENT OF AGRICULTURE

Animal and Plant Health Inspection Service

[Docket No. APHIS-2023-0042]

Chronic Wasting Disease Herd Certification Program Standards; Virtual Public Meetings

AGENCY: Animal and Plant Health Inspection Service, Department of Agriculture (USDA).

ACTION: Notice of public meetings.

SUMMARY: We are notifying the public that the Animal and Plant Health Inspection Service will hold five virtual listening sessions to receive public input on topics related to updates and improvements to the Chronic Wasting Disease Herd Certification Program Standards.

DATES: The virtual listening sessions will be held via webinar on July 27, 2023, at 12 p.m. Eastern Daylight Time (EDT); August 10, 2023, at 3 p.m. EDT; August 17, 2023, at 2 p.m. EDT; August 24, 2023, at 1 p.m. EDT; and September 14, 2023, at 3 p.m. EDT.

ADDRESSES: These will be virtual listening sessions. Participants will be required to register in advance to participate in the listening sessions. For more information about registration, providing comments, and accessibility for the meetings, see the SUPPLEMENTARY INFORMATION section of this notice.

FOR FURTHER INFORMATION CONTACT: Dr. Hillary A. McManama, Veterinary Medical Officer, Cervid Health Staff, Strategy and Policy, Veterinary Services, APHIS; c/o Ms. Melanie Rouse, 4700 River Road, Unit 43, Riverdale, MD 20737; email: CWD@usda.gov; phone: (608) 381-2529.

SUPPLEMENTARY INFORMATION:

Background

Chronic wasting disease (CWD) is a transmissible spongiform encephalopathy of cervids (members of Cervidae, the deer family). Species currently known to be susceptible to CWD include elk, mule deer, moose, white-tailed deer, sika deer, muntjac, reindeer, and black-tailed deer.

In 2014, the Animal and Plant Health Inspection Service (APHIS) implemented the National CWD Herd Certification Program (HCP), a voluntary Federal-State-industry cooperative program administered by APHIS and implemented by participating States. States and herd owners choosing to participate must comply with the provisions of 9 CFR parts 55 and 81 (referred to below as the regulations), which include requirements for animal identification, interstate movement, fencing, recordkeeping, herd inspections and inventories, animal mortality testing, and response to any findings of CWD-exposed, -suspect, or -positive herds. APHIS monitors the approved State HCPs to ensure consistency with Federal standards by means of annual State reporting and onsite and/or virtual program reviews as needed. With each year of successful surveillance, participating herds will advance in status. After 5 years of compliance with the program requirements with no evidence of CWD, APHIS will certify the herd as being low risk for CWD. Only captive cervids (deer, elk, and moose) from enrolled herds certified as low risk for CWD may move interstate. APHIS has issued a CWD Program Standards document ¹ to provide detailed guidance on how to meet the requirements of the regulations referred to above.

¹ https://www.aphis.usda.gov/animal_health/animal_diseases/cwd/downloads/cwd-program-standards.pdf.

Section 603 of the Fiscal Year 2023 Omnibus Appropriations Bill enacted the Chronic Wasting Disease Research and Management Act (H.R. 5608, the CWD Research and Management Act). Under the terms of the CWD Research and Management Act, APHIS must “solicit public feedback on potential updates and improvements” to the Chronic Wasting Disease Herd Certification Program Standards.

Pursuant to the CWD Research and Management Act, APHIS is publishing this notice soliciting public feedback on potential updates and improvements to the CWD Program Standards. Specifically, we are scheduling a series of virtual listening sessions to gather information that will help us in evaluating and potentially amending the program standards consistent with the CWD Research and Management Act. The listening sessions will be conducted virtually, by webinar.

Registration: The listening sessions will be held on July 27, 2023, at 12 p.m. Eastern Daylight Time (EDT); August 10, 2023, at 3 p.m. EDT; August 17, 2023, at 2 p.m. EDT; August 24, 2023, at 1 p.m. EDT; and September 14, 2023, at 3 p.m. EDT.

Topics for discussion on July 27th, at 12 p.m. EDT will be:

• The overall direction of the program.

• Increasing herd certification program participation.

• Biosecurity.

• Prevention of contact between farmed and wild cervids.

• Prevention of CWD not including genetics.

Topics for discussion on August 10th, at 3 p.m. EDT will be:

• Inspection and inventory, including:

○ animal identification (ID);

○ electronic ID; and

○ annual and physical inspections.

Topics for discussion on August 17th, at 2 p.m. EDT will be:

• Surveillance.

• Use of ante-mortem tests.

• Postmortem sampling.

• Penalties for HCP non-compliance.

Topic for discussion on August 24th, at 1 p.m. EDT will be:

• Disease response, including use of predictive genetics to manage CWD positive, suspect and exposed herds.

Topics for discussion on September 14th, at 3 p.m. EDT will be:

• Indemnity approach, including role of indemnity in predictive genetics herd management; and

• Use of predictive genetics to prevent CWD within the HCP.

Topics needing additional discussion may be added to a listening session and will be announced at least 2 weeks prior to the session on the Cervid Health Program website at https://www.aphis.usda.gov/aphis/ourfocus/animalhealth/animal-disease-information/cervid/cervids-cwd/cervids-voluntary-hcp.

Participants will need to register in advance to participate in the listening sessions. The deadline to register to speak at the first listening session is July 20, 2023. The deadline to register for the remaining sessions will be one week prior to each session. Comments will be limited to a maximum of 3 to 5 minutes depending on the number of requests to speak. Registration instructions and updated session information can be accessed on the Cervid Health Program website.

Public comment: You may provide written comments at the meetings by using the meeting chat function or file written comments before, during, or after the meetings by emailing or mailing to the Agency contact listed under FOR FURTHER INFORMATION CONTACT. Written comments by attendees or other interested stakeholders will be welcomed for the public record up to close of business Monday, November 13, 2023. Please refer to Docket No. APHIS-2023-0042 when submitting your comments. We also encourage interested persons to subscribe to APHIS' Stakeholder Registry ² to receive updated information by email about the upcoming listening sessions.

² To subscribe to the APHIS Stakeholder Registry, go to https://public.govdelivery.com/accounts/USDAAPHIS/subscriber/new.

Accessibility: If you require special accommodations, such as a sign language interpreter, please contact CWD@usda.gov.

Done in Washington, DC, this 5th day of July 2023.
Michael Watson,
Acting Administrator, Animal and Plant Health Inspection Service.

[FR Doc. 2023-14689 Filed 7-11-23; 8:45 am]

BILLING CODE 3410-34-P